DEPARTMENT OF TRANSPORTATION

Federal Railroad Administration

Petition for Waiver of Compliance

In accordance with part 211 of title 49 Code of Federal Regulations (CFR), notice is hereby given that the Federal Railroad Administration (FRA) received a request for a waiver of compliance with certain requirements of its safety standards. The individual petition is described below, including the party seeking relief, the regulatory provisions involved, the nature of the relief being requested, and the petitioner's arguments in favour of relief.

Illinois Railway Museum

[Docket Number FRA-2005-21271]

The Illinois Railway Museum (IRM), a standard gage railroad and electric traction museum, seeks a waiver of compliance from the requirements of title 49 Code of Federal Regulations (CFR) 230.17 One thousand four hundred seventy-two (1472) service day inspection for their locomotive number (IRM) 428. Locomotive number 428, is a former Union Pacific steam locomotive, built by the Baldwin Locomotive Works in 1901 (Boiler Number 18303) with a wheel arrangement of 2-8-0.

The IRM is not engaged in general railroad transportation, and provides only railroad/electric railway tourist excursions on a limited schedule. The IRM currently consists of approximately 26 acres of display area, with 1.5 miles of track under cover for display purposes. In addition, they operate a segment of track on the former Elgin & Belvidere electric railway right-of-way, between Kishwaukee Grove and East Union, Illinois, in McHenry County.

This waiver specifically requests relief from the requirements of 49 CFR 230.17(a) General that states: “In the case of a new locomotive or a locomotive being brought out of retirement, the initial 15 year period shall begin on the day that the locomotive is placed in service or 365 days after the first flue tube is installed in the locomotive, which ever comes first.” The IRM initiated restoration of the number 428 in January 1984, underwent a successful interior boiler inspection by FRA in October 1999, and passed a hydrostatic test in early 2000. The locomotive has been stored dry, and indoors since the initiation of the restoration project. Relief is sought by IRM to begin the 1,472 service days, and the corresponding 15 year period on the day of the first steam test, not the day the first tube was installed, as they installed the tubes in October 1999, and FRA published the revised 49 CFR part 230 Inspection and Maintenance Standards for Steam Locomotives on November 17, 1999.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number FRA-2005-21271) and must be submitted in triplicate to the Docket Clerk, DOT Central Docket Management Facility, Room PL-401, Washington, DC 20590-0001. Communications received within 45 days of the date of this notice will be considered by FRA before final action is taken. Comments received after that date will be considered as far as practicable. All written communications concerning these proceedings are available for examination during regular business hours (9 a.m.-5 p.m.) at DOT Central Docket Management Facility, Room PL-401 (Plaza Level), 400 Seventh Street, SW., Washington. All documents in the public docket are also available for inspection and copying on the Internet at the docket facility's Web site at http://dms.dot.gov.

Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19377-78). The statement may also be found at http://dms.dot.gov.

Issued in Washington, DC, on July 13, 2005.
Grady C. Cothen, Jr.,
Deputy Associate Administrator for Safety Standards and Program Development.

[FR Doc. 05-14345 Filed 7-20-05; 8:45 am]

BILLING CODE 4910-06-P